DEPARTMENT OF ENERGY

Federal Energy Regulatory Commission

[Docket No. RP03-612-000]

Questar Southern Trails Pipeline Company; Notice of Tariff Filing

October 2, 2003.

Take notice that on September 24, 2003, Questar Southern Trails Pipeline Company (Southern Trails) pursuant to 18 CFR 154.7 of the Commission's Regulations, submitted for filing the following tariff sheets to Original Volume No. 1 of its FERC Gas Tariff to be effective October 24, 2003.

Original Volume No. 1

First Revised Sheet Nos. 72 through 78

Southern Trails is proposing to update the Measurement section of its tariff to comport with current industry measurement standards and practices.

Southern Trails states that a copy of this filing has been served upon its customers and the Public Service Commissions of Utah, New Mexico, Arizona, and California.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “eFiling” link.

Comment Date: October 6, 2003.

Magalie R. Salas,
Secretary.

[FR Doc. E3-00015 Filed 10-8-03; 8:45 am]

BILLING CODE 6717-01-P